DEPARTMENT OF ENERGY

Federal Energy Regulatory Commission

[Project No. 1971-079 Idaho/Oregon]

Idaho Power Company; Notice of Availability of the Final Environmental Impact Statement for the Hells Canyon Project

August 31, 2007.

In accordance with the National Environmental Policy Act of 1969 and the Federal Energy Regulatory Commission's (Commission) regulations, 18 CFR Part 380 (Order No. 486, 52 F.R. 47897), the Office of Energy Projects has reviewed the application for license for the Hells Canyon Project (FERC No. 1971), located on the Snake River in Washington and Adams Counties, Idaho, and Wallowa and Baker Counties, Oregon, and has prepared a Final Environmental Impact Statement (final EIS) for the project. About 5,270 acres of federal lands administered by the Forest Service and the Bureau of Land Management (Payette and Wallowa-Whitman National Forests and Hells Canyon National Recreational Area) are included within the project boundary.

The final EIS contains staff evaluations of the applicant's proposal and the alternatives for relicensing the Hells Canyon Project. The final EIS documents the views of governmental agencies, non-governmental organizations, affected Indian tribes, the public, the license applicant, and Commission staff.

A copy of the final EIS is available for review in the Commission's Public Reference Branch, Room 2A, located at 888 First Street, NE., Washington, DC 20426, 1-866-208-3676, public.referenceroom@ferc.gov. The final EIS also may be viewed on the Commission's Web site at http://www.ferc.gov under the eLibrary link. Enter the docket number excluding the last three digits in the docket number field to access the document. For assistance, contact FERC Online Support at FERCOnlineSupport@ferc.gov or toll-free at 1-866-208-3676, or for TTY, (202) 502-8659.

CD versions of the final EIS have been mailed to everone on the mailing list for the project. Copies of the CD, as well as a limited number of paper copies, are available from the Public Reference Room identified above.

You may also register online at http://www.ferc.gov/docs-filing/esubscription.asp to be notified via e-mail of new filings and issuances related to this or other pending projects. For assistance, contact FERC Online Support.

For further information, contact Alan Mitchnick at (202) 502-6074, alan.mitchnick@ferc.gov; or Emily Carter at (202) 502-6512, emily.carter@ferc.gov.

Kimberly D. Bose,
Secretary.

[FR Doc. E7-17925 Filed 9-11-07; 8:45 am]

BILLING CODE 6717-01-P